OFFICE OF PERSONNEL MANAGEMENT

[OMB Control No. 3206-0XXX; Form RI 20-123]

Proposed Information Collection; Request for Comment on a New Information Collection

AGENCY: Office of Personnel Management.

ACTION: Notice.

SUMMARY: In accordance with the Paperwork Reduction Act of 1995 (Pub. L. 10413, May 22, 1995), this notice announces that the Office of Personnel Management (OPM) intends to submit to the Office of Management and Budget (OMB) a request for review of a new information collection. “Request for Case Review for Enhanced Disability Annuity Benefit” (OMB Control No. 3206-0XXX). Due to recent court orders, the Office of Personnel Management (OPM) must compute, or recomputed as applicable, the disability annuities for individuals who performed service as law enforcement officers, firefighters, nuclear materials carriers, Customs and Border Patrol officers, members of the Capitol and the Supreme Court police, Congressional employees, members of Congress, and air traffic controllers. Because these court orders were handed down long after some of the affected individuals retired and/or died and they are not identified in the OPM computer systems, it is necessary for these individuals to self-identify. Form RI 20-123 is needed on the OPM website so these individuals and their survivors can make the request.

Comments are particularly invited on: Whether this collection of information is necessary for the proper performance of functions of the Office of Personnel Management, and whether it will have practical utility; whether our estimate of the public burden of this collection is accurate, and based on valid assumptions and methodology; and ways in which we can minimize the burden of the collection of information on those who are to respond, through use of the appropriate technological collection techniques or other forms of information technology.

We estimate that we will receive 720 responses a year and the time it takes to respond is estimated to be 5 minutes. The annual burden is estimated to be 60 hours.

For copies of this proposal, contact Cyrus S. Benson on (202) 606-4808, FAX (202) 606-0910 or via E-mail to Cyrus.Benson@opm.gov. Please include a mailing address with your request.

DATES: Comments on this proposal should be received within 60 calendar days from the date of this publication.

ADDRESSES: Send or deliver comments to James K. Freiert (Acting), Deputy Associate Director, Retirement Operations, Retirement & Benefits, U.S. Office of Personnel Management, 1900 E Street, NW., Room 3305, Washington, DC 20415-3500.

FOR INFORMATION REGARDING ADMINISTRATIVE COORDINATION CONTACT: Cyrus S. Benson, Team Leader, Publications Team, Retirement & Benefits/Resource Management, Office of Personnel Management, 1900 E Street, NW., Room 4H28, Washington, DC 20415, (202) 606-4808.

U.S. Office of Personnel Management.
John Berry,
Director.

[FR Doc. 2010-13167 Filed 6-1-10; 8:45 am]

BILLING CODE 6325-38-P